DEPARTMENT OF LABOR

Veterans' Employment and Training Service

Advisory Committee on Veterans' Employment, Training, and Employer Outreach (ACVETEO); Notice of Charter Renewal and a Public Meeting

AGENCY: Veterans' Employment and Training Service, U.S. Department of Labor.

ACTION: Notice of charter renewal and a public meeting.

Notice of Charter Renewal: In accordance with section 4110 of Title 38, U.S. Code, the provisions of the Federal Advisory Committee Act (FACA) and its implementing regulations issued by the U.S. General Services Administration (GSA), the Department is renewing the charter for the Advisory Committee on Veterans' Employment, Training, and Employer Outreach (ACVETEO).

The ACVETEO's responsibilities are to: (a) Assess employment and training needs of veterans and their integration into the workforce; (b) determine the extent to which the programs and activities of the U.S. Department of Labor (DOL) are meeting such needs; (c) assist the Assistant Secretary for Veterans' Employment and Training (ASVET) in conducting outreach to employers with respect to the training and skills of veterans and the advantages afforded employers by hiring veterans; (d) make recommendations to the Secretary of Labor, through the ASVET, with respect to outreach activities and the employment and training needs of veterans; and (e) carry out such other activities deemed necessary to making required reports and recommendations under section 4110(f) of Title 38, U.S. Code.

Per section 4110(c)(1) of Title 38, U.S. Code, the Secretary of Labor shall appoint at least 12, but no more than 16, individuals to serve as members of the ACVETEO as follows: 7 individuals, 1 each from among representatives nominated by each of the following organizations: (i) The Society for Human Resource Management; (ii) the Business Roundtable; (iii) the National Association of State Workforce Agencies; (iv) the United States Chamber of Commerce; (v) the National Federation of Independent Business; (vi) a nationally recognized labor union or organization; and (vii) the National Governors Association; not more than 5 individuals from among representatives nominated by veterans' service organizations that have a national employment program; not more than 5 individuals who are recognized authorities in the fields of business, employment, training, rehabilitation, or labor and who are not employees of DOL.

The ACVETEO will report to the Secretary of Labor. It will function solely as an advisory body and in compliance with the provisions of the FACA, and its charter will be filed under the FACA. For more information, contact Timothy A. Green, Designated Federal Official, ACVETEO, U.S. Department of Labor, 200 Constitution Ave. NW., Washington, DC 20210; telephone (202) 693-4700.

Notice of Public Meeting: In accordance with section 4110 of Title 38, U.S. Code, and the provisions of the Federal Advisory Committee Act (FACA) (5 U.S.C. App. 2 § 10), notice is hereby given to announce a public meeting of the Advisory Committee on Veterans' Employment, Training, and Employer Outreach (ACVETEO) on June 20, 2013. This notice includes the agenda and provides supplementary information to support the meeting. All meetings of the ACVETEO are open to the public.

DATES: The meeting will begin at approximately 9:30 a.m. Eastern Standard Time on Thursday, June 20, 2013, and will adjourn at approximately 4:00 p.m.

SUPPLEMENTARY INFORMATION: The meeting will take place at the U.S. Department of Labor, Frances Perkins Building, 200 Constitution Avenue NW., Washington, DC 20210, Executive Room, C5515. Members of the public are encouraged to arrive early to allow for security clearance into the Frances Perkins Building.

Security Instructions: Meeting participants should use the visitors' entrance to access the Frances Perkins Building, one block north of Constitution Avenue at 3rd and C Streets NW. For security purposes meeting participants must:

1. Present a valid photo ID to receive a visitor badge.

2. Know the name of the event being attending: the meeting event is the Advisory Committee on Veterans' Employment, Training and Employer Outreach (ACVETEO).

3. Visitor badges are issued by the security officer at the Visitor Entrance located at 3rd and C Streets NW. When receiving a visitor badge, the security officer will retain the visitor's photo ID until the visitor badge is returned to the security desk.

4. Laptops and other electronic devices may be inspected and logged for identification purposes.

5. Due to limited parking options, Metro rail is the easiest way to access the Frances Perkins Building.

Notice of Intent to Attend Meeting: All meeting participants are being asked to submit a notice of intent to attend by Wednesday, June 5, 2013, via email to Mr. Timothy Green at green.timothy.a@dol.gov, subject line “June 2013 ACVETEO Meeting.” The meeting site is accessible to individuals with disabilities. If individuals have special needs and/or disabilities that will require special accommodations, please contact Mr. Timothy Green on (202) 693- 4723 or via email at green.timothy.a@dol.gov no later than Wednesday, June 5, 2013. Any member of the public who wishes to file written data or comments pertaining to the agenda may do so by sending the data or comments to Mr. Timothy Green via email at green.timothy.a@dol.gov, subject line “June 2013 ACVETEO Meeting,” or submitting to the Office of Strategic Outreach, Veterans' Employment and Training Service, U.S. Department of Labor, Room S-1325, 200 Constitution Avenue NW., Washington, DC 20210. Such submissions will be included in the record for the meeting if received by Wednesday, June 5, 2013.

FOR FURTHER INFORMATION CONTACT: The Designated Federal Official, Mr. Timothy Green, Director, Office of Strategic Outreach, Veterans' Employment and Training Service, U.S. Department of Labor, 200 Constitution Avenue NW., Room S-1325, Washington, DC 20210, Telephone: (202) 693-2796 (this is not a toll-free number).

Meeting Agenda

9:30 a.m.

Welcome and Introductions

Mr. Paul Bucha, Chariman ACVETEO

Mr. Keith Kelly, Assistant Secretary for Veterans' Employment and Training

10:00 a.m.

Administrative Business

Mr. Timothy Green, Designated Federal Officer (DFO)

10:15 a.m.

DOL VETS Initiatives and Veteran Employment Challenges TBD

11:00 a.m.

Brief on Connecticut Public Broadcasting Network Learning Lab

Mr. Paul Bucha

11:30 a.m. Brief on Gulf Transport Veteran Hiring Initiative

Mr. Paul Bucha

12:00 p.m.

Lunch

1:15 p.m.

Sub-Committee Assignments

—Employer Outreach

—Focus Populations

—Women Veterans

—Disabled Veterans

—Guard and Reserve

2:30 p.m.

Way Forward and Sub-Committee Homework

3:00 p.m.

Public Forum

4:00 p.m.

Adjorn

Signed at Washington, DC, this 9th day of May 2013.
Keith Kelly,
Assistant Secretary for Veterans' Employment and Training.

[FR Doc. 2013-11486 Filed 5-14-13; 8:45 am]

BILLING CODE 4510-79-P